DEPARTMENT OF COMMERCE

National Oceanic and Atmospheric Administration

[I.D. 051002B]

Assessment Modeling Paper on Large Coastal Sharks

AGENCY: National Marine Fisheries Service (NMFS), National Oceanic and Atmospheric Administration (NOAA), Commerce.

ACTION: Notice of availability of large coastal shark assessment modeling paper; request for comments; announcement of large coastal shark stock assessment workshop.

SUMMARY: NMFS announces the availability of a paper that evaluates the range of sensitivity trials and alternative model structures recommended by independent peer reviews of the 1998 large coastal shark (LCS) stock assessment. The paper describes the sensitivity trial results obtained from using 1998 data to evaluate the recommended range of alternative model/data formulations. NMFS requests public comment on the paper and whether the recommendations of the independent peer reviews have been adequately addressed. NMFS also announces the 2002 LCS stock evaluation workshop (SEW) will be held June 24-28, 2002, in the NMFS Panama City Laboratory, 3500 Delwood Beach Road, Panama City, FL 32408.

DATES: Written comments must be received no later than 5 p.m., eastern standard time, on June 5, 2002.

ADDRESSES: Written comments on the modeling paper should be sent to Margo Schulze-Haugen, Highly Migratory Species Management Division (F/SF1), National Marine Fisheries Service (NMFS), 1315 East-West Highway, Silver Spring, MD 20910, or may be sent via facsimile (fax) to 301-713-1917. Written requests for copies of the modeling paper should be sent to Margo Schulze-Haugen.

FOR FURTHER INFORMATION CONTACT: Margo Schulze-Haugen or Karyl Brewster-Geisz, (301) 713-2347, fax (301) 713-1917; or Enric Cortes, (850) 234-6541.

SUPPLEMENTARY INFORMATION: The Atlantic shark fisheries are managed under the authority of the Magnuson-Stevens Fishery Conservation and Management Act. The Fishery Management Plan for Atlantic Tunas, Swordfish, and Sharks (HMS FMP) is implemented by regulations at 50 CFR part 635.

On November 21, 2000, Southern Offshore Fishing Association and other commercial fishermen and dealers (plaintiffs) and NMFS reached a settlement agreement that prescribed actions to be taken by both parties in order to resolve issues raised in two lawsuits brought against NMFS by the plaintiffs. On December 7, 2000, Judge Steven D. Merryday of the U.S. District Court for the Middle District of Florida entered an order approving the settlement agreement.

The settlement agreement, inter alia, required NMFS to obtain an independent review of the 1998 LCS stock assessment. In October 2001, NMFS received the complete peer reviews of the 1998 LCS stock assessment. The reviews contained various recommendations for future LCS stock assessments.

The modeling paper evaluates the range of sensitivity trials and alternative model structures recommended by the independent peer reviews of the 1998 LCS stock assessment. The paper describes the sensitivity trial results obtained from using 1998 data to evaluate the recommended range of alternative model/data formulations. NMFS requests public comment on the paper and whether the recommendations of the peer reviews have been adequately addressed. The paper is now available on the NMFS website (http://www.nmfs.noaa.gov/sfa/hmspg.html). Hard copies of the document are available upon request (see ADDRESSES).

NMFS also announces the 2002 LCS stock evaluation workshop (SEW) will be held June 24-28, 2002, in the NMFS Panama City Laboratory, 3500 Delwood Beach Road, Panama City, FL 32408. Past and prospective participants and observers will be contacted with the SEW details. Persons interested in participating or observing the SEW should contact Enric Cortes (see FOR FURTHER INFORMATION CONTACT).

Authority: 16 U.S.C. 971 et seq.and 1801 et seq.

Dated: May 22, 2002.
John H. Dunnigan
Director, Office of Sustainable Fisheries, National Marine Fisheries Service.

[FR Doc. 02-13254 Filed 5-24-02; 8:45 am]

BILLING CODE 3510-22-S